SOCIAL SECURITY ADMINISTRATION

[Docket No: SSA-2019-0055]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov

(SSA) Social Security Administration, OLCA, Attn: Reports Clearance Director, 3100 West High Rise, 6401 Security Blvd., Baltimore, MD 21235, Fax: 410-966-2830, Email address: OR.Reports.Clearance@ssa.gov. Or you may submit your comments online through www.regulations.gov, referencing Docket ID Number [SSA-2019-0055].

I. The information collections below are pending at SSA. SSA will submit them to OMB within 60 days from the date of this notice. To be sure we consider your comments, we must receive them no later than February 21, 2020. Individuals can obtain copies of the collection instruments by writing to the above email address.

1. Continuing Disability Review Report—20 CFR 404.1589 & 416.989—0960-0072. Sections 221(i), 1614(a)(3)(H)(ii)(I) and 1633(c)(1) of the Social Security Act requires SSA to periodically review the cases of individuals who receive benefits under Title II or Title XVI, based on disability, to determine if disability continues. SSA uses Form SSA-454, Continuing Disability Review Report to complete the review for continued disability. SSA considers adults eligible for payment if they continue to be unable to do substantial gainful activity because of their impairments; and we consider Title XVI children eligible for payment if they have marked and severe functional limitations due to their impairments. SSA also uses Form SSA-454 to obtain information on sources of medical treatment; participation in vocational rehabilitation programs (if any); attempts to work (if any); and the opinions of individuals regarding whether their conditions have improved. The respondents are Title II or Title XVI disability recipients or their representatives.

Type of Request: Revision of an OMB-approved information collection.

Modality of completion | Number of respondents | Frequency of response | Average burden per response (minutes) | Estimated total annual burden (hours) | Average theoretical hourly cost amount (dollars) * | Total annual opportunity cost (dollars) **
SSA-454-BK (Paper version) | 270,500 | 1 | 60 | 270,500 | * $10.22 | ** $2,764,510
Electronic Disability Collect System (EDCS) | 270,500 | 1 | 60 | 270,500 | * 10.22 | ** 2,764,510
Totals | 541,000 |  |  | 541,000 |  | ** 5,529,020
* We based this figure on average DI payments, as reported in SSA's disability insurance payment data.
** This figure does not represent actual costs that SSA is imposing on recipients of Social Security payments to complete this application; rather, these are theoretical opportunity costs for the additional time respondents will spend to complete the application. There is no actual charge to respondents to complete the application.

2. Supplemental Security Income (SSI)—Quality Review Case Analysis—0960-0133. To assess the Supplemental Security Income (SSI) program and ensure the accuracy of its payments, SSA conducts legally mandated periodic SSI case analysis quality reviews. SSA uses Form SSA-8508-BK, and the electronic Excel application version, e8505, to conduct these reviews, collecting information on operating efficiency; the quality of underlying policies; and the effect of incorrect payments. SSA also uses the data to determine SSI program payment accuracy rate, which is a performance measure for the agency's service delivery goals. Respondents are the recipients of SSI payments which SSA randomly selects for quality reviews. Type of Request: Revision of an OMB-approved information collection.

Modality of completion | Number of respondents | Frequency of response | Average burden per response (minutes) | Estimated total annual burden (hours) | Average theoretical hourly cost amount (dollars) * | Total annual opportunity cost (dollars) **
SSA-8508-BK (paper interview) | 230 | 1 | 60 | 230 | * $10.22 | ** $2,351
e8508 (electronic interview) | 4,370 | 1 | 60 | 4,370 | * 10.22 | ** 44,661
Totals | 4,600 |  |  | 4,600 |  | ** 47,012
* We based this figure on average DI payments, as reported in SSA's disability insurance payment data.
** This figure does not represent actual costs that SSA is imposing on recipients of Social Security payments to complete this application; rather, these are theoretical opportunity costs for the additional time respondents will spend to complete the application. There is no actual charge to respondents to complete the application.

3. Employer Reports of Special Wage Payments—20 CFR 404.428—404.429—0960-0565. SSA collects information on the SSA-131 to prevent earnings-related overpayments, and to avoid erroneous withholding of benefits. SSA field offices and program service centers also use Form SSA-131 for awards and post-entitlement events requiring special wage payment verification from employers. While we need this information to ensure the correct payment of benefits, we do not require employers to respond. The respondents are large and small businesses that make special wage payments to retirees. Type of Request: Revision of an OMB-approved information collection.

Modality of completion | Number of respondents | Frequency of response | Average burden per response (minutes) | Estimated total annual burden (hours) | Average theoretical hourly cost amount (dollars) * | Total annual opportunity cost (dollars) **
Paper Version: SSA-131 (without #6) | 105,000 | 1 | 20 | 35,000 | * $36.65 | $1,282,750
Paper Version: SSA-131 (#6 only) | 1,050 | 1 | 2 | 35 | * 36.65 | ** 1,283
Electronic Version: Business Services Online Special Wage Payments | 26 | 1 | 5 | 2 | * 36.65 | ** 73
Totals | 106,076 |  |  | 35,037 |  | ** 1,284,106
* We based this figure on average Budget Analysts hourly salary, as reported by Bureau of Labor Statistics data.
** This figure does not represent actual costs that SSA is imposing on recipients of Social Security payments to complete this application; rather, these are theoretical opportunity costs for the additional time respondents will spend to complete the application. There is no actual charge to respondents to complete the application.

4. Consent Based Social Security Number Verification Process—20 CFR 400.100—0960-0760. The Consent Based Social Security Number Verification (CBSV) process is a fee-based automated Social Security number (SSN) verification service available to private businesses and other requesting parties. To use the system, private businesses and requesting parties must register with SSA and obtain valid consent from SSN holders prior to verification. We collect the information to verify if the submitted name and SSN match the information in SSA records. After completing a registration process and paying the fee, the requesting party can use the CBSV process to submit a file containing the names of number holders who gave valid consent, along with each number holder's accompanying SSN and date of birth (if available) to obtain real-time results using a web service application or SSA's Business Services Online (BSO) application. SSA matches the information against the SSA master file of SSNs, using SSN, name, date of birth, and gender code (if available). The requesting party retrieves the results file from SSA, which indicates only a match or no match for each SSN submitted.

Under the CBSV process, the requesting party does not submit the consent forms of the number holders to SSA. SSA requires each requesting party to retain a valid consent form for each SSN verification request. The requesting party retains the consent forms in either electronic or paper format.

SSA added a strong audit component to ensure the integrity of the CBSV process. At the discretion of the agency, we require audits (called “compliance reviews”) with the requesting party paying all audit costs. Independent certified public accounts (CPAs) conduct these reviews to ensure compliance with all the terms and conditions of the party's agreement with SSA, including a review of the consent forms. CPAs conduct the reviews at the requesting party's place of business to ensure the integrity of the process. In addition, SSA reserves the right to perform unannounced onsite inspections of the entire process, including review of the technical systems that maintain the data and transaction records. The respondents to the CBSV collection are the participating companies; members of the public who consent to the SSN verification; and CPAs who provide compliance review services.

Type of Request: Revision of an OMB-approved information collection.

Time Burden

Requirement | Number of respondents | Frequency of response | Number of responses | Average burden per response (minutes) | Estimated total annual burden (hours) | Average theoretical hourly cost amount (dollars) * | Total annual opportunity cost (dollars) **
Participating Companies
Registration process for new participating companies. | *** 10 | 1 | 10 | 120 | 20 | * $36.98 | ** $740
Creation of file with SSN holder identification data; maintaining required documentation/forms | 80 | **** 251 | 20,080 | 60 | 20,080 | * 36.98 | ** 742,558
Using the system to upload request file, check status, and download results file | 80 | 251 | 20,080 | 5 | 1,673 | * 36.98 | ** 61,868
Storing Consent Forms | 80 | 251 | 20,080 | 60 | 20,080 | * 36.98 | ** 742,558
Activities related to compliance review | 80 | 251 | 20,080 | 60 | 20,080 | * 36.98 | ** 742,558
Totals | 330 |  | 80,330 |  | 61,933 |  | ** 2,290,282
Participating Companies Who Opt for External Testing Environment (ETE)
ETE Registration Process (includes reviewing and completing ETE User Agreement) | 30 | 1 | 1 | 180 | 90 | * 36.98 | ** 3,328
Web Service Transactions | 30 | 50 | 1,500 | 1 | 25 | * 36.98 | ** 925
Reporting Issues Encountered on Web service testing (e.g., reports on application's reliability) | 30 | 50 | 1,500 | 1 | 25 | * 36.98 | ** 925
Reporting changes in users' status (e.g., termination or changes in users' employment status; changes in duties of authorized users) | 30 | 1 | 1 | 60 | 30 | * 36.98 | ** 1,109
Cancellation of Agreement | 30 | 1 | 1 | 30 | 15 | * 36.98 | ** 555
Dispute Resolution | 30 | 1 | 1 | 120 | 60 | * 36.98 | ** 2,219
Totals | 180 |  | 3,004 |  | 245 |  | ** 9,061
People Whose SSNs SSA Will Verify
Reading and signing authorization for SSA to release SSN verification (Form SSA-89) | 2,500,000 | 1 | 2,500,000 | 3 | 125,000 | * 10.22 | ** 1,277,500
Responding to CPA re-contact | 4,000 | 1 | 4,000 | 5 | 333 | * 36.98 | ** 12,314
Totals | 2,504,000 |  | 2,504,000 |  | 125,333 |  | ** 1,289,814
* We based these figures on average Business and Financial operations occupations hourly salaries, as reported by Bureau of Labor Statistics data, and per average DI payments, as reported in SSA's disability insurance payment data.
** This figure does not represent actual costs that SSA is imposing on recipients of Social Security payments to complete this application; rather, these are theoretical opportunity costs for the additional time respondents will spend to complete the application. There is no actual charge to respondents to complete the application.
*** One-time registration process/approximately 10 new participating companies per year.
**** Please note there are 251 Federal business days per year on which a requesting party could submit a file.

There is one CPA respondent conducting compliance reviews and preparing written reports of findings. The average burden per the 80 responses is 4,800 minutes for a total burden of 6,400 hours annually.

Cost Burden

The public cost burden is dependent upon the number of companies and transactions per year. In FY 2019, 80 companies enrolled; 80 companies submitted an advance; and 70 actually performed verifications. The cost estimates below are based upon 80 participating companies in FY 2019 (includes an average of 10 new companies per year since 2016) submitting a total of 2,500,000 transactions.

One-Time Per Company Registration Fee: $5,000.

Estimated Per SSN Transaction Fee: $1.00.

Estimated Per Company Cost to Store Consent Forms: $300.

II. SSA submitted the information collections below to OMB for clearance. Your comments regarding these information collections would be most useful if OMB and SSA receive them 30 days from the date of this publication. To be sure we consider your comments, we must receive them no later than January 22, 2020. Individuals can obtain copies of the OMB clearance packages by writing to OR.Reports.Clearance@ssa.gov.

1. Missing and Discrepant Wage Reports Letter and Questionnaire—26 CFR 31.6051-2—0960-0432. Each year employers report the wage amounts they paid their employees to the Internal Revenue Service (IRS) for tax purposes, and separately to SSA for retirement and disability coverage purposes. Employers should report the same figures to SSA and the IRS; however, each year some of the employer wage reports SSA receives show wage amounts lower than those employers report to the IRS. SSA uses Forms SSA-L93-SM, SSA-L94-SM, SSA-95-SM, and SSA-97-SM to ensure employees receive full credit for their wages. Respondents are employers who reported lower wage amounts to SSA than they reported to the IRS.

Type of Request: Revision of an OMB-approved information collection.

Modality of completion | Number of respondents | Frequency of response | Average burden per response (minutes) | Estimated total annual burden (hours) | Average theoretical hourly cost amount (dollars) * | Total annual opportunity cost (dollars) **
SSA-95-SM and SSA-97-SM (and accompanying cover letters SSA-L93, L94) | 360,000 | 1 | 30 | 180,000 | * $22.50 | ** $4,050,000
* We based this figure on average U.S. citizen's hourly salary, as reported by Bureau of Labor Statistics data.
**
This figure does not represent actual costs that SSA is imposing on recipients of Social Security payments to complete this application; rather, these are theoretical opportunity costs for the additional time respondents will spend to complete the application. There is no actual charge to respondents to complete the application.

2. Request for Proof(s) from Custodian of Records—20 CFR 404.703, 404.704, 404.720, 404.721, 404.723, 404.725, & 404.728—0960-0766. SSA sends Form SSA-L707, Request for Proof(s) from Custodian of Records, to records custodians on behalf of individuals who need help obtaining evidence of death, marriage, or divorce in connection with claims for benefits. SSA uses the information from the SSA-L707 to determine eligibility for benefits. The respondents are records custodians including statistics and religious entities, coroners, funeral directors, attending physicians, and State agencies.

Type of Request: Revision of an OMB-approved information collection.

Modality of completion | Number of respondents | Frequency of response | Average burden per response (minutes) | Estimated total annual burden (hours) | Average theoretical hourly cost amount (dollars) * | Total annual opportunity cost (dollars) **
State or Local Government | 94 | 1 | 10 | 16 | * $18.00 | ** $288
Private Sector | 24 | 1 | 10 | 4 | * 37.60 | ** 150
Totals | 118 |  |  | 20 |  | ** 438
* We based these figures on average records custodians in the local/state government, and records custodians in the private sectors hourly salary, as reported by Bureau of Labor Statistics data.
** This figure does not represent actual costs that SSA is imposing on recipients of Social Security payments to complete this application; rather, these are theoretical opportunity costs for the additional time respondents will spend to complete the application. There is no actual charge to respondents to complete the application.

Dated: December 18, 2019.
Naomi Sipple,
Reports Clearance Officer, Social Security Administration.

[FR Doc. 2019-27664 Filed 12-20-19; 8:45 am]

BILLING CODE 4191-02-P